DEPARTMENT OF DEFENSE

Office of the Secretary

Defense Health Board (DHB); DoD Task Force on the Prevention of Suicide by Members of the Armed Forces

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, DoD announces that the DoD Task Force on the Prevention of Suicide by Members of the Armed Forces will meet on January 15, 2010. Subject availability of space, meeting is open to the public.

DATES: The Task Force will meet from 9 a.m. to 4 p.m. on January 15, 2010.

ADDRESSES: The meeting will be held at the Hyatt Regency Washington on Capitol Hill, 400 New Jersey Ave., NW., Washington, DC 20001.

FOR FURTHER INFORMATION CONTACT: COL JoAnne McPherson, Executive Secretary, DoD Task Force on Suicide Prevention by Members of the Armed Forces, One Skyline Place, 5205 Leesburg Pike, Suite 810, Falls Church, Virginia 22041-3206, (703) 681-3279, ext 162, Fax: (703) 681-3317, JoAnne.Mcpherson@tma.osd.mil.

SUPPLEMENTARY INFORMATION: The task Force will meet to receive briefings regarding current Service efforts related to the investigation of suicides among members of the Armed Services.

Additional information, agenda updates, and meeting registration are available online at the Defense Health Board Web site, http://www.ha.osd.mil/dhb. The public is encouraged to register for the meeting.

Agenda

On January 15, 2010, the DoD Task Force on the Prevention of Suicide by Members of the Armed Forces will receive briefings from experts and others related to their procedures on investigations within the safety and risk management areas. Task Force members will also receive briefings from experts on data analysis studies. There will also be a panel of Service members who have previously attempted suicide.

Pursuant to 5 U.S.C. 552b, as amended, and 41 CFR 102-3.140 through 102-3.165 and subject availability of space, the DoD Task Force on the Prevention of Suicide by Members of the Armed Forces meeting is open to the public.

Written Statements

Any member of the public wishing to provide input to the Task Force on the Prevention of Suicide by Members of the Armed Forces should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer (DFO) (see FOR FURTHER INFORMATION CONTACT) at any point. However, if the written statement is not received at least 10 calendar days prior to the meeting, which is subject to this notice, then it may not be provided to or considered by the Task Force on the Prevention of Suicide by Members of the Armed Forces until the next open meeting. Written statements may be mailed to the above (see FOR FURTHER INFORMATION CONTACT), e-mailed to dhb@ha.osd.mil or faxed to (703) 681-3317.

The DFO will review all timely submissions with the Task Force on the Prevention of Suicide by Members of the Armed Forces Co-Chairpersons, and ensure they are provided to members of the Task Force before the meeting that is subject to this notice. After reviewing the written comments, the Co-Chairpersons and the Designated Federal Officer may choose to invite the submitter of the comments to orally present their issue during an open portion of this meeting or at a future meeting.

The DFO, in consultation with the Task Force on the Prevention of Suicide by Members of the Armed Forces Co-Chairpersons, may, if desired, allot a specific amount of time for members of the public to present their issues for review and discussion by the Task Force on the Prevention of Suicide by Member of the Armed Forces.

Special Accommodations

If special accommodations are required to attend (sign language, wheelchair accessibility) please contact Ms. Severine Bennett at (202) 374-5755 or bennett_severine@bah.com by January 1, 2010.

Dated: December 24, 2009.
Mitchell S. Bryman,
Alternate OSD Federal Register Liaison Officer, Department of Defense.

[FR Doc. E9-30946 Filed 12-29-09; 8:45 am]

BILLING CODE 5001-06-P